DEPARTMENT OF DEFENSE

Department of the Navy

Notice of Availability of Final Environmental Assessment and Finding of No Significant Impact for Transfer of the Naval Ammunition Support Detachment Property, Vieques Island, Puerto Rico

AGENCY: Department of Navy, DOD.

ACTION: Notice.

SUMMARY: Pursuant to section 102(2)(C) of the National Environmental Policy Act (NEPA) of 1969 and the Council on Environmental Quality regulations (40 CFR Parts 1500-1508) implementing the procedural provisions of NEPA, the Department of the Navy (the Navy) gives notice that an Environmental Assessment (EA) has been prepared and an Environmental Impact Statement (EIS) is not required for transfer of the Naval Ammunition Support Detachment (NASD) property on Vieques Island, Puerto Rico. The Navy intends to transfer the majority of the property to the Municipality of Vieques by December 31, 2000.

FOR FURTHER INFORMATION CONTACT: Sixto Escobar, Public Affairs Officer, COMUSNAVSO, San Juan Detachment, Federico Degetau Federal Building, 150 Carlos Chardon Avenue, Room 354, Hato Rey, Puerto Rico 00918, or by e-mail at escobars@nvastarr.navy.mil

SUPPLEMENTARY INFORMATION: The Floyd D. Spence National Defense Authorization Act for Fiscal Year 2001, Public Law (PL) 106-398, directed the Navy to transfer the NASD property (except for approximately 100 acres [40 hectares]) to the Municipality of Vieques, Puerto Rico Conservation Trust (PRCT), and United States Department of Interior (DOI). While this legislation differed from the draft legislation used as a basis for preparing the draft EA, the purposes of the land transfer and the proposed management and reuse of the property are essentially the same. The action evaluated in the EA is the conveyance of approximately 4,250 acres (1,700 hectares) of the NASD property to the Municipality of Vieques, which would be available for development as generally described in the proposed Vieques Land Use Plan prepared by the Puerto Rico Planning Board (PRPB) on behalf of the Municipality of Vieques; the transfer of approximately 3,050 acres (1,220 hectares) to DOI to be administered as a national wildlife refuge; the conveyance of 800 acres (320 hectares) to PRCT to be managed as a wildlife refuge; and the retention of easements needed for continued access and operation and maintenance of the Relocatable Over-the-Horizon Radar (ROTHR) and Monte Pirata telecommunication facilities, which are being retained by the Navy. The DOI and PRCT wildlife refuges will be managed pursuant to cooperative agreement among DOI, PRCT, and the Commonwealth of Puerto Rico to protect and preserve their natural and cultural resources in perpetuity for the benefit of the general public.

The analysis conducted in the EA focused on the following resources: Land Use and Aesthetics, Soils, Water Quality, Air Quality, Noise, Terrestrial and Marine Environments, Threatened and Endangered Species, Socioeconomics Conditions, Cultural Resources, Environmental Contamination, and Coastal Zone Management. The analysis concluded that implementation of the Proposed Action will have no significant adverse impacts on the environment and that an EIS is not warranted.

The Final EA and FONSI, in either English or Spanish, may be obtained from: Sixto Escobar, Public Affairs Officer, COMUSNAVSO, San Juan Detachment, Federico Degetau Federal Building, 150 Carlos Chardon Avenue, Room 354, Hato Rey, Puerto Rico 00918, or by e-mail at escobars@nvastarr.navy.mil

A limited number of copies of the EA and FONSI are available to fill single copy requests. In addition, copies of the Final EA are available for public review at the following repositories:

Biblioteca Publica Jose Gautier Benitez, Municipio de Vieques, Calle Carlos Lebrun, No. 449, Vieques, Puerto Rico 00765

Museo Fuerte Conde de Mirasol, Barriada Fuerte, Magnolia No. 471, Vieques, Puerto Rico 00765

Biblioteca Publica Municipal Alejandrina Quinonez Rivera, Urbanizacion Rossy Valley No. 816, Calle Francisco Gatier, Cieba, Puerto Rico 00735

Biblioteca Publica Carnegie, 7 Ponce de Leon Avenue, San Juan, Puerto Rico 00901

Dated: November 28, 2000.
J.L. Roth,
Lieutenant Commander, Judge Advocate General's Corps, U.S. Navy, Federal Register Liaison Officer.

The text of the entire Finding of No Significant Impact is provided as follows:

Department of Defense

Department of the Navy

Finding of No Significant Impact for Transfer of the Naval Ammunition Support Detachment Property, Vieques Island, Puerto Rico

Pursuant to section 102(2)(C) of the National Environmental Policy Act (NEPA) of 1969 and the Council on Environmental Quality regulations (40 CFR Parts 1500-1508) implementing the procedural provisions of NEPA, the Department of the Navy (the Navy) gives notice that an Environmental Assessment (EA) has been prepared and an Environmental Impact Statement (EIS) is not required for transfer of the Naval Ammunition Support Detachment (NASD) property on Vieques Island, Puerto Rico.

The proposed action is to comply with the Floyd D. Spence National Defense Authorization Act for Fiscal Year 2001, Public Law (PL) 106-398, directing the Navy to transfer the NASD property (except for approximately 100 acres [40 hectares]) to the Municipality of Vieques, Puerto Rico Conservation Trust (PRCT), and United States Department of Interior (DOI). The Navy prepared and issued a draft EA on August 25, 2000, based on the draft legislation that was being considered at that time by the U.S. Congress. The final legislation, which is reflected in PL 106-398, differed from the draft legislation regarding the parties to whom the land is to be transferred and the potential timing of the transfer. Nonetheless, the purposes of the land transfer and the proposed management and reuse of the property are essentially the same as proposed in the original legislation. Thus, the Navy has completed this final EA based on the final legislation as reflected in PL 106-398.

The proposed action evaluated in the EA is the transfer of approximately 4,250 acres (1,700 hectares) of the NASD property to the Municipality of Vieques, which would be available for development as generally described in the proposed Vieques Land Use Plan prepared by the Puerto Rico Planning Board (PRPB) on behalf of the Municipality of Vieques; the transfer of approximately 3,050 acres (1,220 hectares) to DOI to be administered as a national wildlife refuge; the transfer of 800 acres (320 hectares) to PRCT to be managed as a wildlife refuge; and the retention of easements needed for continued access and operation and maintenance of the Relocatable Over-the-Horizon Radar (ROTHR) and Monte Pirata telecommunication facilities, which are being retained by the Navy. The wildlife refuges will be managed pursuant to a cooperative management Agreement among DOI, PRCT, and the Commonwealth of Puerto Rico to protect and preserve their natural and cultural resources in perpetuity for the benefit of the general public. The statute requires all the land to be transferred not later than May 1, 2001; however, individual transfers could occur separately and independently prior to that date. The proposed action does not include, nor is it related to, any actions by the Navy regarding continued operation of the Navy's Atlantic Fleet Weapons Training Facility (AFWTF) or the Eastern Maneuver Area, which are located on the eastern half of Vieques.

The EA considers only the No Action and Proposed Action alternatives. Under the No Action alternative, the Navy would retain all the NASD property. Because PL 106-398 explicitly directs the Navy to transfer the NASD property, the Navy does not have the legal authority to consider alternative means for disposal or reuse of the property. Because the No Action alternative would not satisfy the congressional mandate contained in the proposed legislation, the No Action alternative is not a reasonable course of action.

The EA evaluates the direct environmental impacts of the proposed land transfer, as well as the potential indirect environmental impacts of the reasonably foreseeable reuse and redevelopment of the land conveyed to the Municipality. Following a phased approach, the Municipality-owned land would be made available for low-density residential development, tourism-related commercial and residential development, and mixed-use development as conceptually proposed in the Vieques Land Use Plan. Wildlife-dependent recreational uses, such as fishing, hunting, wildlife observation and photography, environmental education, and interpretation, would be allowed within the DOI and PRCT-owned wildlife refuges; however, construction or development would be limited to basic visitor facilities.

The Navy has completed consultation with the United States Fish and Wildlife Service (USFWS) and National Marine Fisheries Service regarding compliance with the Endangered Species Act. In response to USFWS concerns about potential adverse effects to federally listed species from the proposed development of the property to be transferred to the Municipality of Vieques, the PRPB modified the proposed Vieques Land Use Plan to prohibit development in areas where federally threatened and endangered species are known to occur. Potential adverse impacts to federally endangered hawksbill and leatherback sea turtles will be avoided by designation of “no development” zones along beaches that provide suitable nesting habitat. Similarly, “no development” areas are designated surrounding four locations where federally listed tree species (cobana negra and beautiful goetzea) are known to occur. The USFWS concluded that the proposed action is not likely to adversely effect any federally protected species or associated habitat.

The EA demonstrates that there will be no significant direct or indirect impacts to cultural resources associated with the transfer or conveyance of NASD property. Cultural resources located on the property transferred to the Department of the Interior will continue to come under the purview of federal cultural resource protection laws. No undertaking, as defined in the National Historic Preservation Act (NHPA), could proceed on the property transferred to DOI until DOI has met the requirements of Section 106 of the NHPA. While the property conveyed to the Municipality of Vieques or the PRCT will not be subject to the provisions of federal laws such as the NHPA, there are Commonwealth laws and regulations that expressly protect and preserve cultural resources. These laws and regulations require, among other things, that the Puerto Rico Planning Board approve all actions affecting cultural resources. As a part of the PRPB approval process, the Puerto Rico Institute of History and Culture reviews the proposed action regarding impacts on historic and cultural resources. Commonwealth law also restricts the ability of municipalities to alter PRPB regulations and zoning restrictions that relate to historic or cultural resources.

Notwithstanding the protection provided under Commonwealth laws and regulations, the Puerto Rico State Historic Preservation Officer (SHPO) and the President's Advisory Council on Historic Preservation (ACHP) expressed concern over potential impacts to cultural resources. The Navy has attempted to address these concerns through discussions of a Programmatic Agreement under section 106 of the NHPA. In addition to the SHPO and the ACHP, the U.S. Department of the Interior, the Puerto Rico Department of Natural Resources, the Puerto Rico Planning Board, the Municipality of Vieques, and the PRCT also participated in the section 106 consultation process.

At this time, agreement on a proposed Programmatic Agreement has not been achieved. Perceiving an inability to reach agreement, Navy gave notice of termination of the consultation process to the ACHP on November 27, 2000. The absence of a Programmatic Agreement under the NHPA does not affect the application of Commonwealth laws and regulations to cultural resources. The Navy will continue to work with the interested parties in an effort to ensure that cultural resources are protected under applicable laws and regulations. As a result of Navy's efforts, the Puerto Rico Planning Board has already issued a directive requiring that the SHPO be provided the opportunity to review and comment on all projects affecting cultural resources on the NASD property transferred to PRCT or the Municipality of Vieques.

The draft EA was prepared concurrently with the performance of relevant Comprehensive Environmental Response, Compensation, and Liability Act (CERCLA) hazardous substance studies and investigations. Some of the ongoing CERCLA studies (e.g., site investigations, remedial studies and designs, risk assessments) will not be completed until after the transfer of the property. The EA is based on the most currently available data and information, and reasonable assumptions regarding land use and other restrictions, which may be implemented to protect human health and the environment prior to completion of site remediation. The ongoing investigation and remediation of contaminated areas are not subject to consideration within this EA.

The analysis conducted in the EA focused on the following resources: Land Use and Aesthetics, Soils, Water Quality, Air Quality, Noise, Terrestrial and Marine Environments, Threatened and Endangered Species, Socioeconomic Conditions, Cultural Resources, Environmental Contamination, and Coastal Zone Management. The analysis concluded that implementation of the Proposed Action will have no significant adverse impacts on the environment and that an EIS is not warranted.

Based on information gathered during preparation of the EA, the Navy finds that the transfer of the NASD property will not significantly impact human health or the environment. The EA and FONSI prepared by the Navy addressing this action may be obtained from: Commander, Atlantic Division, Naval Facilities Engineering Command, 1510 Gilbert Street, Norfolk, Virginia, 23511-2699, (Attn: Mr. Bob Waldo, Code 2032RW), e-mail: waldorh@efdlant.navfac.navy.mil or telephone (757) 322-4895. A limited number of copies of the EA and FONSI are available to fill single copy requests.

November 28, 2000.
Duncan Holaday,
Deputy Assistant Secretary of the Navy (Installations and Facilities).

[FR Doc. 00-30751 Filed 11-30-00; 8:45 am]

BILLING CODE 3810-FFP